TENNESSEE VALLEY AUTHORITY

Meeting of the Regional Energy Resource Council

AGENCY: Tennessee Valley Authority (TVA).

ACTION: Notice of meeting.

SUMMARY: The TVA Regional Energy Resource Council (RERC) will hold a webinar meeting on Wednesday, July 16, 2014, to discuss TVA's options for future operation of the Allen Fossil Plant.

The RERC was established to advise TVA on its energy resource activities and the priorities among competing objectives and values. Notice of this meeting is given under the Federal Advisory Committee Act (FACA), 5 U.S.C. App. 2.

The meeting agenda includes the following:

1. Welcome and Introductions

2. Update on the Allen Fossil Plant Draft Environmental Assessment

3. Council discussion

The Webinar is open to the public, through registration via: www.tva.com/rerc. No oral comments from the public will be accepted during the webinar session. The public may provide written comments during the meeting through the webinar interface. The public also may provide written comments to the RERC at any time through links on TVA's Web site at www.tva.com/rerc or by mailing written comments to the Regional Energy Resource Council, Tennessee Valley Authority, 400 West Summit Hill Drive, WT-11 B, Knoxville, Tennessee 37902.

DATES: The Webinar meeting will be held on Wednesday, July 16, from 10:00 a.m. to 11:30 a.m. EDT.

Location: The meeting will be conducted by webinar only. To request accommodation for a disability, please contact Beth Keel (contact information below) at least a week in advance of the webinar.

FOR FURTHER INFORMATION CONTACT: Beth Keel, 400 West Summit Hill Drive, WT-11 B, Knoxville, Tennessee 37902, (865) 632-6113.

Dated: June 5, 2014.
Joseph J. Hoagland,
Vice President, Stakeholder Relations, Tennessee Valley Authority.

[FR Doc. 2014-13706 Filed 6-11-14; 8:45 am]

BILLING CODE 8120-08-P